DEPARTMENT OF TRANSPORTATION

National Highway Traffic Safety Administration

Petition for Modification of Exemption From the Vehicle Theft Prevention Standard; Volkswagen

AGENCY: National Highway Traffic Safety Administration (NHTSA) Department of Transportation (DOT).

ACTION: Grant of a petition for modification of a previously approved antitheft device.

SUMMARY: On May 13, 1993, this agency granted in full Volkswagen of America's (Volkswagen) petition for exemption from the parts-marking requirements of the vehicle theft prevention standard for the Volkswagen Jetta and Cabrio car lines. Additionally, on April 10, 1995 and December 22, 1995, the agency granted in full Volkswagen's petition for exemption for the Golf and Passat car lines, respectively. On March 12, 2001, Volkswagen petitioned the agency for modification of a previously approved antitheft device for the Jetta, Cabrio, Golf and Passat car lines beginning with the 2002 model year. The agency grants Volkswagen's petition for modification because it has determined, based on substantial evidence, that the modified antitheft device described in Volkswagen's petition to be placed on the car lines as standard equipment, is likely to be as effective in reducing and deterring motor vehicle theft as compliance with the parts-marking requirements of the Theft Prevention Standard.

DATES: The exemption granted by this notice is effective beginning with model year (MY) 2002.

FOR FURTHER INFORMATION CONTACT: Ms. Rosalind Proctor, Office of Planning and Consumer Programs, NHTSA, 400 Seventh Street, SW., Washington, DC 20590. Ms. Proctor's telephone number is (202) 366-0846. Her fax number is (202) 493-2290.

SUPPLEMENTARY INFORMATION: In May 1993, NHTSA published in the Federal Register a notice granting the petition from Volkswagen of America, Inc. (Volkswagen) for an exemption from the parts-marking requirement of the Theft Prevention Standard for the Volkswagen Jetta and Cabrio car lines beginning with model year (MY) 1994 (see 58 FR 28434, May 13, 1993). In April 1995, NHTSA published in the Federal Register a notice granting the petition for an exemption from the parts-marking requirement of the Theft Prevention Standard for the Volkswagen Golf car line beginning with MY 1996 (see 60 FR 18164, April 10, 1995). In December 1995, NHTSA published in the Federal Register a notice granting the petition for an exemption from the parts-marking requirement of the Theft Prevention Standard for the Volkswagen Passat car line beginning with MY 1997 (see 60 FR 66575, December 22, 1995). The agency determined that the antitheft device which Volkswagen installed on its Jetta, Cabrio, Golf and Passat car lines as standard equipment were likely to be as effective in reducing and deterring motor vehicle theft as compliance with the parts-making requirements. Specifically, the current antitheft system for the Jetta, Cabrio and Golf car lines incorporates central-locking, an engine starter-interrupt feature and an audio and visual alarm. The current antitheft system for the Passat car line incorporates central-locking, an engine starter-interrupt feature and an optional audio and visual alarm.

By letter dated March 12, 2001 Volkswagen submitted a petition for modification of its previously approved antitheft systems for the Volkswagen Cabrio, Jetta, Golf and Passat car lines, beginning with MY 2001.

On July 11, 2001, the agency contacted Volkswagen by telephone and obtained additional information which clarified the nature of the changes to the antitheft systems for its Cabrio, Jetta, Golf and Passat car lines. The information Volkswagen supplied to NHTSA by letter and telephone is considered a complete petition, as required by 49 CFR 543.9(d), in that it meets the general requirements contained in 49 CFR 543.5 and the specific content requirements of 49 CFR 543.6.

Volkswagen stated that it has modified its system by adding an electronic engine immobilizer feature to its standard antitheft system as described in its original petitions for exemption for the Jetta, Cabrio, Golf and Pasat car lines. Additionally, Volkswagen proposes to delete the starter-interrupt feature of its current system because the electronic engine immobilizer will perform the same intended functions. Volkswagen acknowledged that it had not notified the agency in advance of this added feature because it believed that there was no change to the basic system for which the exemptions had been granted. The agency notes Volkswagen's neglect to inform it of the changes it contemplated in making to its original antitheft device. In accordance with § 543.9(c)(2)(ii) the manufacturer must request permission to use an antitheft device similar to, but different from the standard equipment antitheft device which it installed under the exemption. For future exemption modifications, the agency fully expects Volkswagen to notify the agency of its intention to modify or change its antitheft system from that installed under the original exemption.

Volkswagen's electronic engine immobilizer has a three generation phase-in and its components include an immobilizer control unit, a warning lamp in the dash panel insert, a reading coil on the ignition key and an engine control unit. Volkswagen stated that the advancement between its Generation I and Generation II engine immobilizer systems used in the Golf and Jetta car lines consisted of integration of the immobilizer control unit in the dash panel insert and the addition of a coding feature. The Generation II system used in the Cabrio differs from that used in the Golf and Jetta car lines in that the immobilizer control unit is not integrated into the dash panel, but is separate. Volkswagen stated that it equipped the Passat car line with the Generation III system in MY 2001. Additionally, the optional alarm currently offered on the Passat line will be included as a standard feature of the modified system.

In MY 2002, all four car lines will be installed with the Generation III system. Volkswagen stated that the Generation III system modifies the mode of communication between the engine control module and the immobilizer control unit, so that the engine control unit also actively participates with the immobilizer control unit for calculating and verifying the correct key code for starting the engine.

Activation and deactivation of the modified system for all four car lines will remain the same as it is in the current systems. Specifically, automatic activation of the system occurs when the driver/operator removes the key from the ignition and normally locks the doors.

The modified system will require use of a correctly coded-key to start and unlock the vehicle. Volkswagen stated that the key looks like a normal coded-key with internal milling, but has a small read/write transponder built into the body or head, of the key. A data read coil has also been added to the ignition lock cylinder. The reading coil energizes the transponder in the key, reads its code and sends the key's code to the evaluation unit. When the ignition key is turned to the “ON” position, the key's transponder, the immobilizer control unit and the engine control unit initiate a set of tests to determine if the vehicle should start. The transmission of the code initiates arithmetic operations in the key transponder and the immobilizer control unit to determine if the key is the correct one for authorized starting of the vehicle. A new variable code is generated every time the vehicle is started or starting is attempted so that duplicating a key to start the vehicle is impossible. If the initiated tests fail, such as if when an incorrect key is used, the owner/operator will be unable to start the vehicle. The car will only start when the ignition is unlocked both mechanically and electronically.

Volkswagen stated that the modified device will also continue to monitor the vehicle's doors, hood and trunk. If the system is armed and unauthorized entry is subsequently attempted from any of the protected areas, the antitheft device will be triggered, causing activation of a visual and audible alarm.

Volkswagen also provided a detailed description of the identity, design and location of the components of the antitheft system including diagrams of the components and their location in the vehicle beginning with the 2002 MY. To prevent defeat of the antitheft system, Volkswagen stated that all system components are inaccessibly located.

In order to ensure the reliability and durability of the device, Volkswagen stated that it conducted tests of the modified antitheft device, including electrical and mechanical durability, and certifies that it passed all of the performance requirements of the tests conducted.

The agency believes that there is substantial evidence indicating that the modified antitheft device to be installed as standard equipment on the MY 2002 Volkswagen Cabrio, Golf, Jetta and Passat car lines will likely be as effective in reducing and deterring motor vehicle theft as compliance with the requirements of the Theft Prevention Standard (49 CFR Part 541). This determination is based on the information that Volkswagen submitted with its petition and other available information. The agency believes that the modified device will continue to provide five types of performance listed in 543.6(a)(3): promoting activation; attracting attention to unauthorized entries; preventing defeat or circumventing of the device by unauthorized persons; preventing operation of the vehicle by unauthorized entrants; and ensuring the reliability and durability of the device.

As required by 49 CFR 543.6(a)(4), the agency also finds that Volkswagen has provided adequate reasons for its belief that the modified antitheft device will reduce and deter theft. This conclusion is based on the information Volkswagen provided on its antitheft system. This information included a description of reliability and functional tests conducted by Volkswagen for its antitheft device and its components.

The agency has evaluated Volkswagen's MY 2002 petition for modification of the previous exemptions granted for the Cabrio, Golf, Jetta and Passat car lines from the parts-marking requirements of 49 CFR Part 541. The agency has determined that the modified device to be installed on the Volkswagen Cabrio, Golf, Jetta and Passat car lines are likely to be as effective as parts marking in preventing and deterring theft of these vehicles, and therefore qualifies for a full exemption under 49 CFR Part 543.

For the foregoing reasons, the agency hereby grants Volkswagen's petition for modification of the exemptions previously granted to the Jetta, Cabrio, Golf and Passat car lines beginning with the 2002 model year.

If, in the future, Volkswagen decides not to use the exemption for the car lines that are the subject of this notice, it should formally notify the agency. If such a decision is made, the car line(s) must be fully marked according to the requirements under 49 CFR 541.5 and 541.6 (marking of major component parts and replacement parts).

NHTSA notes that if Volkswagen wishes in the future to modify the device on which this exemption is based, it may have to submit a petition to modify the exemption. Part 543.7(d) states that a Part 543 exemption applies only to vehicles that belong to a line exempted under this part and equipped with the antitheft device on which the line's exemption is based. Further, 543.9(c)(2) provides for the submission of petitions “(t)o modify an exemption to permit the use of an antitheft device similar to but differing from the one specified in that exemption.”

The agency wishes to minimize the administrative burden which 543.9(c)(2) could place on exempted vehicle manufacturers and itself. The agency did not intend in drafting Part 543 to require the submission of a modification petition for every change to the components or design of an antitheft device. The significance of many such changes could be de minimis.

Therefore, NHTSA suggests that if the manufacturer contemplates making any changes the effects of which might be characterized as de minimis, it should consult the agency before preparing and submitting a petition to modify.

Authority: 49 U.S.C. 33106; delegation of authority at 49 CFR 1.50

Issued on: August 3, 2001.
Stephen R. Kratzke,
Associate Administrator for Safety, Performance Standards.

[FR Doc. 01-19864 Filed 8-7-01; 8:45 am]

BILLING CODE 4910-59-P